DEPARTMENT OF EDUCATION

Office of Safe and Drug-Free Schools; Overview Information; Grants To Reduce Alcohol Abuse; Notice Inviting Applications for New Awards for Fiscal Year (FY) 2004

Catalog of Federal Domestic Assistance (CFDA) Number: 84.184A

DATES: Applications Available: February 24, 2004.

Deadline for Transmittal of Applications: April 9, 2004.

Deadline for Intergovernmental Review: April 26, 2004.

Eligible Applicants: Local educational agencies (LEAs).

Estimated Available Funds: $5,500,000. The Secretary may reserve up to 25 percent of funds to award grants to low-income and rural LEAs. Contingent upon the availability of funds, we may make additional awards in FY 2005 from the rank-ordered list of non-funded applications from this competition.

Estimated Range of Awards: $250,000-$750,000.

Estimated Average Size of Awards: $500,000.

Estimated Number of Awards: 11.

Note: The Department is not bound by any estimates in this notice.

Project Period: Up to 36 months.

Full Text of Announcement

I. Funding Opportunity Description

Purpose of Program: This program provides grants to LEAs to develop and implement innovative and effective programs to reduce alcohol abuse in secondary schools.

Priority: In accordance with 34 CFR 75.105(b)(2)(iv), this priority is from section 4129 of the Safe and Drug-Free Schools and Communities Act, 20 U.S.C. 7139.

Absolute Priority: For FY 2004 this priority is an absolute priority. Under 34 CFR 75.105(c)(3) we consider only applications that meet this priority.

This priority is: Alcohol Abuse Reduction.

A project must develop and implement innovative and effective programs to reduce alcohol abuse in secondary schools.

Program Authority: 20 U.S.C. 7139.

Applicable Regulations: The Education Department General Administrative Regulations (EDGAR) in 34 CFR parts 75, 77, 79, 80, 81, 82, 84, 85, 97, 98, 99, and 299.

II. Award Information

Type of Award: Discretionary grants.

Estimated Available Funds: $5,500,000. The Secretary may reserve up to 25 percent of funds for grants to low-income and rural LEAs. Contingent upon the availability of funds, we may make additional awards in FY 2005 from the rank-ordered list of non-funded applications from this competition.

Estimated Range of Awards: $250,000-$750,000.

Estimated Average Size of Awards: $500,000.

Estimated Number of Awards: 11.

Note: The Department is not bound by any estimates in this notice.

Project Period: Up to 36 months.

III. Eligibility Information

1. Eligible Applicants: LEAs.

2. Cost Sharing or Matching: This competition does not involve cost sharing or matching.

3. Other: To be eligible to receive a grant under this competition, an LEA's application must include—

i. A description of the activities to be carried out under the grant;

ii. An assurance that such activities will include one or more of the proven strategies for reducing underage alcohol abuse as determined by the Substance Abuse and Mental Health Services Administration (SAMSA);

iii. An explanation of how other activities to be carried out under the grant that are not a SAMSA model program will be effective in reducing underage alcohol abuse, including references to the past effectiveness of such activities;

iv. An assurance that the applicant will submit to the Secretary an annual report concerning the effectiveness of the programs and activities funded under the grant.

IV. Application and Submission Information

1. Address to Request Application Package: Education

Publications Center (ED Pubs), P.O Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov

If you request an application from ED Pubs be sure to identify this competition as follows: CFDA number 84.184A.

Individuals with disabilities may obtain this document in an alternative format (e.g., Braille, large print, audiotape, or computer diskette) on request to the program contact person listed under For Further Information Contact elsewhere in this notice.

2. Content and Form of Application Submission:

Requirements concerning the content of an application, together with the forms you must submit, are in the application package for this competition. You may access the electronic version of the application at the following Web site: http://www.ed.gov/programs/dvalcoholabuse/index.html

3. Submission Dates and Times:

Applications Available: February 24, 2004.

Deadline for Transmittal of Applications: April 9, 2004.

The dates and times for the transmittal of applications by mail or by hand (including a courier service or commercial carrier) are in the application package for this competition. The application package also specifies the hours of operation of the e-Application Web site.

We do not consider an application that does not comply with the deadline requirements.

Deadline for Intergovernmental Review: April 26, 2004.

Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Other Submission Requirements: Instructions and requirements for the transmittal of applications by mail or by hand (including a courier service or commercial carrier) are in the application package for this competition. Application Procedures: The Government Paperwork Elimination Act (GPEA) of 1998 (Pub. L. 105-277) and the Federal Financial Assistance Management Improvement Act of 1999 (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

Some of the procedures in these instructions for transmitting applications differ from those in the Education Department General Administrative Regulations (EDGAR) (34 DCR 75.102). Under the Administrative Procedure Act (5 U.S.C. 553), the Department generally offers interested parties the opportunity to comment on proposed regulations. However, these amendments make procedural changes only and do not establish new substantive policy. Therefore, under 5 U.S.C. 553(b)(A), the Secretary has determined that proposed rulemaking is not required.

We are requiring that applications for grants under the Grants to Reduce Alcohol Abuse competition-CFDA Number 84.184A-be submitted electronically using the Electronic Grant Application System (e-Application) available through the Department's e-GRANTS system. The e-GRANTS system is accessible through its portal page at: http://e-grants.ed.gov.

If you are unable to submit an application through the e-GRANTS system, you may submit a written request for a waiver of the electronic submission requirement. In your request, you should explain the reason or reasons that prevent you from using the Internet to submit your application. Address your request to: Ethel F. Jackson, U.S. Department of Education, 400 Maryland Avenue, SW, room 3E308, FOB#6, Washington, DC 20202-6450. Please submit your request no later than two weeks before the application deadline date.

If, within two weeks of the application deadline date, you are unable to submit an application electronically, you must submit a paper application by the application deadline date in accordance with the transmittal instructions in the application package. The paper application must include a written request for a waiver documenting the reasons that prevented you from using the Internet to submit your application.

Pilot Project for Electronic Submission of Applications: We are continuing to expand our pilot project for electronic submission of applications to include additional formula grant programs and additional discretionary grant competitions. The Grants to Reduce Alcohol Abuse competition—CFDA Number 84.184A—is one of the programs included in the pilot project. If you are an applicant under the Grants to Reduce Alcohol Abuse competition, you must submit your application to us in electronic format or receive a waiver.

The pilot project involves the use of e-Application. If you use e-Application, you will be entering data online while completing your application. You may not e-mail an electronic copy of a grant application to us. The data you enter online will be saved into a database. We shall continue to evaluate the success of e-Application and solicit suggestions for its improvement.

If you participate in e-Application, please note the following:

• When you enter the e-Application system, you will find information about its hours of operation. We strongly recommend that you do not wait until the application deadline date to initiate an e-Application package.

• You will not receive additional point value because you do not submit a grant application in electronic format, nor will we penalize you if you submit an application in paper format.

• You must submit all documents electronically, including the Application for Federal Education Assistance (ED 424), Budget Information-Non-Construction Programs (ED 524) and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

Application Deadline Date Extension in Case of System Unavailability: If you are prevented from submitting your application on the application deadline date because the e-Application system is unavailable, we will grant you an extension of one business day in order to transmit your application electronically, by mail, or by hand delivery. We will grant this extension if—

1. You are a registered user of e-Application and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under For Further Information Contact (see VII. Agency Contact) or (2) the e-GRANTS help desk at 1-888-336-8930.

You may access the electronic grant application for the Grants to Reduce Alcohol Abuse competition at: http://e-grants.ed.gov.

V. Application Review Information

1. Selection Criteria: The selection criteria for this program are in 34 CFR 75.210 and in the application package for this competition.

2. Review and Selection Process: An additional factor we consider in selecting an application for an award is rural and low-income status.

Applications from rural and low-income applicants will be read and scored separately and up to 25 percent of the available funds will be reserved for awards to these LEAs. The following is a suggested definition of rural and low-income that has been used by this program in a previous competition; however, LEAs that want to be considered as rural and low-income applicants may provide other supporting evidence of their status as rural and low-income.

A rural and low-income LEA is one (a) that is designated with a locale code of 6, 7, or 8, as determined by the Department's National Center for Education Statistics (NCES); and (b) in which 20 percent or more of the children ages 5 through 17 years served by the LEA are from families below the poverty line. Note: Applicants wishing to be considered under this factor must be both rural and low-income.

VI. Award Administration Information

1. Award Notices: If your application is successful, we notify your U.S. Representative and U.S. Senators and send you a Grant Award Notice (GAN). We may also notify you informally.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.718.

4. Performance Measures: Under the Government Performance and Results Act (GPRA), three measures have been developed for evaluating the overall effectiveness of the Grants to Reduce Alcohol Abuse competition: (1) The percentage of grantees whose target students show a measurable decrease in binge drinking; (2) the percentage of grantees that show a measurable increase in the percentage of target students who believe that alcohol abuse is harmful to their health; and (3) the percentage of grantees that show a measurable increase in the percentage of target students who disapprove of alcohol abuse. These three measures constitute the Department's indicators of success for this program. Consequently, applicants for a grant under this program are advised to give careful consideration to these three outcomes in conceptualizing the design, implementation, and evaluation of their proposed project. If funded, applicants will be asked to collect and report data in their annual performance reports about progress toward these goals.

VII. Agency Contact

For Further Information Contact: Ethel F. Jackson, U.S. Department of Education, 400 Maryland Ave., SW., room 3E308, Washington, DC 20202-6450. Telephone: (202) 260-2812 or by e-mail: ethel.jackson@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 18, 2004.
Deborah A. Price,
Deputy Under Secretary for Safe and Drug-Free Schools.

[FR Doc. 04-3988 Filed 2-23-04; 8:45 am]

BILLING CODE 4000-01-P